FEDERAL RETIREMENT THRIFT INVESTMENT BOARD

Notice of Meeting of the Employee Thrift Advisory Council

DATES: October 19, 2023 at 10:00 a.m.

ADDRESSES: Telephonic. Dial-in (listen only) information: Number: 1-202-599-1426, Code: 370 114 217#; or via web: https://teams.microsoft.com/l/meetup-join/19%3ameeting_OGQxYmRmZmYtNjc2MC00ZTg2LWEwYTctNjNkMzIwODIzZmMz%40thread.v2/0?context=%7b%22Tid%22%3a%223f6323b7-e3fd-4f35-b43d-1a7afae5910d%22%2c%22Oid%22%3a%22533f2df2-5cef-4200-af1c-6d760c60d9cf%22%7d.

FOR FURTHER INFORMATION CONTACT: Kimberly Weaver, Director, Office of External Affairs, (202) 942-1640.

SUPPLEMENTARY INFORMATION:

ETAC Meeting Agenda

1. Approval of the minutes of the May 23, 2023, Joint Board/ETAC Meeting

2. September 2023 Investment Program Review—G, F, C, S, I, and L Funds

3. Participant Report

4. FY2024 FRTIB Budget

5. FY 2023 FISMA Results

6. Legislative Update

7. New Business

Written Statements: Pursuant to 41 CFR 102-3.105(j) and 102-3.140 and section 10(a)(3) of the Federal Advisory Committee Act, interested parties may submit written statements in response to the stated agenda of the meeting, or to the Employee Thrift Advisory Council (ETAC), in general. Individuals may submit their comments to ETACComments@frtib.gov. Written comments or statements received less than 5 days before ETAC's meeting may not be provided to the Committee until its next meeting.

(Authority: 5 U.S.C. 552b(e)(1).)

Dated: October 3, 2023.
Dharmesh Vashee,
General Counsel, Federal Retirement Thrift Investment Board.

[FR Doc. 2023-22362 Filed 10-6-23; 8:45 am]

BILLING CODE P